DEPARTMENT OF ENERGY

[OE Docket No. EA-356]

Application To Export Electric Energy; J.P. Morgan Commodities Canada Corporation

AGENCY: Office of Electricity Delivery and Energy Reliability, DOE.

ACTION: Notice of application.

SUMMARY: J.P. Morgan Commodities Canada Corporation (JPMCCC) has applied for authority to transmit electric energy from the United States to Canada pursuant to section 202(e) of the Federal Power Act.

DATES: Comments, protests, or requests to intervene must be submitted on or before July 6, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On May 26, 2009, DOE received an application from JPMCCC for authority to transmit electric energy from the United States to Canada as a power marketer. The energy to be exported would be delivered to Canada over existing transmission interconnections between the United States and Canada over any facility determined by DOE to be appropriate for third-party use. The electric energy which JPMCCC proposes to export to Canada would be surplus to the needs of the selling entities. JPMCCC has requested an electricity export authorization with a 5-year term.

Procedural Matters: Any person desiring to become a party to these proceedings or to be heard by filing comments or protests to this application should file a petition to intervene, comment, or protest at the address provided above in accordance with 385.211 or 385.214 of the Federal Energy Regulatory Commission's Rules of Practice and Procedures (18 CFR 385.211, 385.214). Fifteen copies of each petition and protest should be filed with DOE on or before the date listed above.

Comments on the JPMCC application to export electric energy to Canada should be clearly marked with Docket No. EA-356. Additional copies are to be filed directly with Ike Gibbs, Compliance Director & Assistant General Counsel, JPMorgan Chase Bank, NM.A., 700 Louisiana Street, Suite 1000, Houston, TX 77002. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on May 29, 2009.
Anthony J. Como,
Director, Permitting and Siting, Office of Electricity Delivery and Energy Reliability.

[FR Doc. E9-12921 Filed 6-2-09; 8:45 am]

BILLING CODE 6450-01-P